DEPARTMENT OF COMMERCE

Foreign-Trade Zones Board

[Order No. 1335]

Approval of Expansion of Manufacturing Authority Within Foreign—Trade Zone 210 Port Huron, Michigan; Cross Hüller-North America (Machine Tools)

Pursuant to its authority under the Foreign-Trade Zones Act of June 18, 1934, as amended (19 U.S.C. 81a-81u)(the Act), the Foreign-Trade Zones Board (the Board) adopts the following Order:

Whereas, Cross Hüller-North America, operator of FTZ 210—Site 2, has requested authority under Section 400.32(b)(1) of the Board's regulations, requesting an expansion of the scope of manufacturing authority to include new foreign-origin components used in the production of metalworking machine tools under zone procedures within FTZ 210, Port Huron, Michigan (Docket 42-2003, filed 8-25-2003);

Whereas, pursuant to 15 CFR 400.32(b)(1), the Commerce Department's Assistant Secretary for Import Administration has the authority to act for the Board in making such decisions on new manufacturing/processing activity under certain circumstances, including situations where the proposed activity is the same, in terms of products involved, to activity recently approved by the Board (§ 400.32(b)(1)(i)); and,

Whereas, the FTZ Staff has reviewed the proposal, taking into account the criteria of Section 400.31, and the Executive Secretary has recommended approval;

Now, therefore, the Assistant Secretary for Import Administration, acting for the Board pursuant to section 400.32(b)(1), concurs in the recommendation and hereby approves the request subject to the Act and the Board's regulations, including section 400.28.

Signed at Washington, DC, this 19th day of May 2004.
James J. Jochum,
Assistant Secretary of Commerce for Import Administration, Alternate Chairman, Foreign-Trade Zones Board.
Dennis Puccinelli,
Executive Secretary.

[FR Doc. 04-12041 Filed 5-26-04; 8:45 am]

BILLING CODE 3510-DS-P